DEPARTMENT OF THE INTERIOR

National Park Service

Notice of Intent To Issue a Temporary of Concession Contract For Food and Beverage, Lodging and Merchandise Services at Oregon Caves National Monument

SUMMARY: Pursuant to the National Park Service Concessions Management Improvement Act of 1998, notice is hereby given that the National Park Service intends to issue a temporary concession contract authorizing continued operation of food and beverage, overnight lodging and merchandise services to the public within Oregon Caves National Monument. The temporary concession contract will be for a term of not more than one year. This short-term concession contract is necessary to avoid interruption of visitor services while the National Park Service finalizes the development of the Prospectus to be issued for a long-term concession contract. This short-term contract will be for a one seasonal operating period ending November 30, 2001. This notice is in pursuant to 36 CFR Part 51, Section 51.24(a).

SUPPLEMENTARY INFORMATION: The concession contract at Oregon Caves National Monument expired on December 31, 2001. The operation is seasonal and operates primarily from mid-May through mid-September and provides visitors with lodging, food and beverage and merchandises services. Oregon Caves National Monument is near completion of a Prospectus for the solicitation of a long-term concession contract that meets the requirements of the park's General Management Plan regarding commercial services offered to the public. The short-term concession contract will allow for this action to take place without a long-term delay in service to the public.

Information about this place can be sought from: National Park Service, Chief, Concession Program Management Office, Pacific West Region, Attn: Mr. Tony Sisto, 600 Harrison Street, Suite 600, San Francisco, California 94107-1372, or call (415) 427-1366.

Dated: January 22, 2001.
John J. Reynolds,
Regional Director, Pacific West Region.

[FR Doc. 01-10404 Filed 4-25-01; 8:45 am]

BILLING CODE 4310-70-M